EXPORT-IMPORT BANK

[Public Notice: 2017-6004]

Agency Information Collection Activities: Comment Request for Form EIB 11-01, Generic Clearance for the Collection of Qualitative Feedback on Agency Service Delivery

AGENCY: Export-Import Bank of the United States.

ACTION: Submission for OMB review and comments request.

SUMMARY: The proposed clearance is designed to allow Ex-Im Bank to survey for the purpose of gaining insights into customers' experiences with the agency and to evaluate product and performance effectiveness. Customers' responses will help to identify potential areas of service improvement and rate overall program experiences.

DATES: Comments must be received on or before September 5, 2017 to be assured of consideration.

ADDRESSES: Comments may be submitted electronically on www.regulations.gov or by mail to Mardel West, Export-Import Bank of the United States, 811 Vermont Ave. NW., Washington, DC 20571.

SUPPLEMENTARY INFORMATION: Affected Public: Individuals representing companies engaged in business with the Export-Import Bank of the U.S.

Burden Hours

Annual Number of Respondents: 3200.

Estimated Time per Respondent: 45 minutes.

Annual Public Burden Hours: 2400 hours.

Frequency of Reporting of Use: On occasion.

Government Expense

Reviewing Time per year: 1,600 Hours.

Average Wages per Hour: $42.50.

Average Cost per Year: $68,000.

Benefits and Overhead: 20%.

Total government Cost: $81,600.

Bassam Doughman,
Project Manager, Export-Import Bank of the United States.

[FR Doc. 2017-16103 Filed 8-3-17; 8:45 am]

BILLING CODE 6690-01-P